DEPARTMENT OF THE TREASURY

Fiscal Service

Surety Companies Acceptable on Federal Bonds: Name Change—International Business & Mercantile REassurance Company

AGENCY: Financial Management Service, Fiscal Service, Department of the Treasury.

ACTION: Notice.

SUMMARY: This is Supplement No. 6 to the Treasury Department Circular 570, 2006 Revision, published June 30, 2006, at 71 FR 37694.

FOR FURTHER INFORMATION CONTACT: Surety Bond Branch at (202) 874-6850.

SUPPLEMENTARY INFORMATION: International Business & Mercantile REassurance Company (NAIC #21439), an Illinois corporation, has formally changed its name to Old Republic General Insurance Corporation, effective June 1, 2006. A Certificate of Authority as an acceptable surety on Federal bonds is hereby issued under 31 U.S.C. 9305 to Old Republic General Insurance Corporation, Chicago, Illinois. This new Certificate replaces the Certificate of Authority issued to this company under its former name. The underwriting limitation of $16,725,000 established for this company as of July 1, 2006, remains unchanged until June 30, 2007. Federal bond-approving officers should annotate their reference copies of the Treasury Circular 570 (``Circular''), 2006 Revision, to reflect this change.

Certificates of Authority expire on June 30, each year, unless revoked prior to that date. The Certificates are subject to subsequent annual renewal as long as the Company remains qualified (see 31 CFR part 223). A list of qualified companies is published annually as of July 1, in the Circular, which outlines details as to underwriting limitations, areas in which companies are licensed to transact surety business, and other information.

The Circular may be viewed and downloaded through the Internet at http://www.fms.treas.gov/c570.

Questions concerning this notice may be directed to the U.S. Department of the Treasury, Financial Management Service, Financial Accounting and Services Division, Surety Bond Branch, 3700 East-West Highway, Room 6F01, Hyattsville, MD 20782.

Dated: December 22, 2006.
Teresa Casswell,
Acting Director, Financial Accounting and Services Division, Financial Management Service.

[FR Doc. 07-117 Filed 1-12-07; 8:45 am]

BILLING CODE 4810-35-M